DEPARTMENT OF TRANSPORTATION

Federal Aviation Administration

3rd Meeting: RTCA Special Committee 219/Attitude and Heading Reference System (AHRS)

AGENCY: Federal Aviation Administration (FAA), DOT.

ACTION: Notice of RTCA Special Committee 219 meeting; Attitude and Heading Reference System (AHRS)

SUMMARY: The FAA is issuing this notice to advise the public of a meeting of RTCA Special Committee 219: Attitude and Heading Reference System (AHRS).

DATES: The meeting will be held September 22-24, 2009 from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 219: Attitude and Heading Reference System (AHRS) meeting. The agenda will include:

• Welcome/Introductions/Administrative Remarks.

• Agenda overview.

• Review/Approve second meeting summary, RTCA Paper No. 034-09/SC219-004, for the 3-5 February 2009 meeting.

• Review group document preparation options, and adopt a method if appropriate.

• Working Group (WG) reports.

• WG-1—Performance & Testing Requirements.

• WG-2—Environmental Requirements.

• WG-3—Installation Requirements.

• New assignments.

• Working group sessions.

• Establish dates, location and agenda for next two meetings.

• Other business.

• Review minutes from the current meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 17, 2009.
Meredith Gibbs,
Staff Specialist, RTCA Advisory Committee.

[FR Doc. E9-20276 Filed 8-21-09; 8:45 am]

BILLING CODE 4910-13-P